DEPARTMENT OF JUSTICE

Drug Enforcement Administration

[Docket No. DEA-392]

Bulk Manufacturer of Controlled Substances Application: Chattem Chemicals, Inc.

ACTION: Notice; Correction.

SUMMARY: The Drug Enforcement Administration (DEA) published a document in the Federal Register on February 6, 2018, concerning a notice of application that inadvertently did not include the controlled substance levorphanol (9220).

Correction

In the Federal Register on February 6, 2018, in FR Doc No: 2018-02343 (83 FR 5274), correct the table to include the following basic class of controlled substance:

Controlled substance | Drug code | Schedule
Levorphanol | 9220 | II

Dated: March 15, 2018.
Susan A. Gibson,
Deputy Assistant Administrator.

[FR Doc. 2018-06327 Filed 3-28-18; 8:45 am]

BILLING CODE 4410-09-P